DEPARTMENT OF TRANSPORTATION

Federal Railroad Administration

Notification of Petition for Approval; Railroad Safety Program Plan

Although not required, the Federal Railroad Administration (FRA) is providing notice that it has received a petition for approval of a Railroad Safety Program Plan (RSPP) submitted pursuant to Title 49 Code of Federal Regulations (CFR) Part 236, Subpart H. The petition is listed below, including the party seeking approval, and the requisite docket number. FRA is not accepting comments on this RSPP.

Northeast Illinois Regional Commuter Railroad Corporation

[Docket Number FRA-2008-0072]

The Northeast Illinois Regional Commuter Railroad Corporation (METRA) submitted a petition for approval of an RSPP. The petition, the RSPP, and any related documents have been placed in the requisite docket (FRA-2008-0072) and are available for public inspection.

Interested parties are invited to review the RSPP and associated documents at the DOT Docket Management Facility during regular business hours (9 a.m.-5 p.m.) at 1200 New Jersey Avenue, SE., Room W12-140, Washington, DC 20590. All documents in the public docket are also available for inspection and copying on the internet at http://www.regulations.gov.

Anyone is able to search the electronic form of any written communications received into any of our dockets by name of the individual submitting the document (or signing the document, if submitted on behalf of an association, business, labor union, etc.). You may review the DOT's complete Privacy Act Statement in the Federal Register published on April 11, 2000 (Volume 65, Number 70; Pages 19477-78).

Issued in Washington, DC on July 9, 2008.
Grady C. Cothen, Jr.,
Deputy Associate Administrator for Safety Standards and Program Development.

[FR Doc. E8-16133 Filed 7-14-08; 8:45 am]

BILLING CODE 4910-06-P